DEPARTMENT OF ENERGY

Federal Energy Regulatory Commission

Combined Notice of Filings #1

Take notice that the Commission received the following exempt wholesale generator filings:

Docket Numbers: EG12-70-000.

Applicants: AltaGas Renewable Energy Colorado LLC.

Description: Notice of EWG Self-Certification of AltaGas Renewable Energy Colorado LLC.

Filed Date: 5/31/12.

Accession Number: 20120531-5108.

Comments Due: 5 p.m. ET 6/21/12.

Take notice that the Commission received the following electric rate filings:

Docket Numbers: ER12-1022-000.

Applicants: Pacific Gas and Electric Company.

Description: Refund Report of Pacific Gas and Electric Company.

Filed Date: 6/1/12.

Accession Number: 20120601-5181.

Comments Due: 5 p.m. ET 6/22/12.

Docket Numbers: ER12-1603-001.

Applicants: PGPV, LLC.

Description: mbr tariff to be effective 4/25/2012.

Filed Date: 5/31/12.

Accession Number: 20120531-5143.

Comments Due: 5 p.m. ET 6/21/12.

Docket Numbers: ER12-1770-001.

Applicants: DES Wholesale, LLC.

Description: Amendment to Filing ID 1 to be effective 5/11/2012.

Filed Date: 5/31/12.

Accession Number: 20120531-5302.

Comments Due: 5 p.m. ET 6/21/12.

Docket Numbers: ER12-1834-001.

Applicants: Vermont Electric Power Company, Inc.

Description: Amendment to True Up Agreement to be effective 7/23/2012.

Filed Date: 6/1/12.

Accession Number: 20120601-5013.

Comments Due: 5 p.m. ET 6/22/12.

Docket Numbers: ER12-1873-000.

Applicants: Midwest Independent Transmission System Operator, Inc.

Description: Consumers-METC DTIA (5-31-12) to be effective 6/1/2012.

Filed Date: 5/31/12.

Accession Number: 20120531-5067.

Comments Due: 5 p.m. ET 6/21/12.

Docket Numbers: ER12-1874-000.

Applicants: Black Hills Power, Inc.

Description: Black Hills Power, Inc., WestConnect Participation to be effective 6/1/2012.

Filed Date: 5/31/12.

Accession Number: 20120531-5081.

Comments Due: 5 p.m. ET 6/21/12.

Docket Numbers: ER12-1875-000.

Applicants: AltaGas Renewable Energy Colorado LLC.

Description: MBR Application to be effective 12/31/9998.

Filed Date: 5/31/12.

Accession Number: 20120531-5148.

Comments Due: 5 p.m. ET 6/21/12.

Docket Numbers: ER12-1876-000.

Applicants: Alabama Power Company.

Description: Blountstown NITSA Filing to be effective 5/1/2012.

Filed Date: 5/31/12.

Accession Number: 20120531-5167.

Comments Due: 5 p.m. ET 6/21/12.

Docket Numbers: ER12-1877-000.

Applicants: Western Massachusetts Electric Company, ISO New England Inc., The Connecticut Light and Power Company.

Description: OATT Attachment F Technical Corrections to be effective 6/1/2012.

Filed Date: 5/31/12.

Accession Number: 20120531-5176.

Comments Due: 5 p.m. ET 6/21/12.

Docket Numbers: ER12-1878-000.

Applicants: Pacific Gas and Electric Company.

Description: Port of Oakland IA and WDT SA No. 3 under PG&E FERC Electric Tariff Volume No. 4 to be effective 6/1/2012.

Filed Date: 5/31/12.

Accession Number: 20120531-5178.

Comments Due: 5 p.m. ET 6/21/12.

Docket Numbers: ER12-1879-000.

Applicants: Wisconsin Public Service Corporation.

Description: Metering Agreement between WPSC and Marshfield to be effective 5/31/2012.

Filed Date: 5/31/12.

Accession Number: 20120531-5179.

Comments Due: 5 p.m. ET 6/21/12.

Docket Numbers: ER12-1880-000.

Applicants: Minco Wind III, LLC.

Description: Minco Wind III, LLC Market-Based Rate Tariff Application to be effective 7/30/2012.

Filed Date: 5/31/12.

Accession Number: 20120531-5194.

Comments Due: 5 p.m. ET 6/21/12.

Docket Numbers: ER12-1881-000.

Applicants: Entergy Arkansas, Inc.

Description: EAI MSS-3 section 30.13 Change to be effective 5/7/2012.

Filed Date: 5/31/12.

Accession Number: 20120531-5202.

Comments Due: 5 p.m. ET 6/21/12.

Docket Numbers: ER12-1882-000.

Applicants: Entergy Gulf States Louisiana, L.L.C.

Description: EGSL MSS-3 section 30.13 Change to be effective 5/7/2012.

Filed Date: 5/31/12.

Accession Number: 20120531-5207.

Comments Due: 5 p.m. ET 6/21/12.

Docket Numbers: ER12-1883-000.

Applicants: Entergy Louisiana, LLC.

Description: ELL MSS-3 section 30.13 Change to be effective 5/7/2012.

Filed Date: 5/31/12.

Accession Number: 20120531-5211.

Comments Due: 5 p.m. ET 6/21/12.

Docket Numbers: ER12-1884-000.

Applicants: Entergy Mississippi, Inc.

Description: EMI MSS-3 30.13 Change to be effective 5/7/2012.

Filed Date: 5/31/12.

Accession Number: 20120531-5212.

Comments Due: 5 p.m. ET 6/21/12.

Docket Numbers: ER12-1885-000.

Applicants: Entergy New Orleans, Inc.

Description: ENOI MSS-3 section 30.13 Change to be effective 5/7/2012.

Filed Date: 5/31/12.

Accession Number: 20120531-5213.

Comments Due: 5 p.m. ET 6/21/12.

Docket Numbers: ER12-1886-000.

Applicants: Entergy Texas, Inc.

Description: ETI MSS-3 section 30.13 Change to be effective 5/7/2012.

Filed Date: 5/31/12.

Accession Number: 20120531-5218.

Comments Due: 5 p.m. ET 6/21/12.

Docket Numbers: ER12-1887-000.

Applicants: NV Energy, Inc.

Description: Service Agreement No. 11-00135 Amended & Restated LGIA FRV Spectrum Solar to be effective 5/3/2012.

Filed Date: 5/31/12.

Accession Number: 20120531-5222.

Comments Due: 5 p.m. ET 6/21/12.

Docket Numbers: ER12-1888-000.

Applicants: Entergy Arkansas, Inc.

Description: EAI MSS-3 section 30.12 change to be effective 5/7/2012.

Filed Date: 5/31/12.

Accession Number: 20120531-5229.

Comments Due: 5 p.m. ET 6/21/12.

Docket Numbers: ER12-1889-000.

Applicants: Alabama Power Company.

Description: PowerSouth NITSA Amendment (Delete Grand Ridge & McVay DPs and add Sneads DP) to be effective 5/1/2012.

Filed Date: 5/31/12.

Accession Number: 20120531-5230.

Comments Due: 5 p.m. ET 6/21/12.

Docket Numbers: ER12-1890-000.

Applicants: Entergy Gulf States Louisiana, L.L.C.

Description: EGSL MSS-3 section 30.12 change to be effective 5/7/2012.

Filed Date: 5/31/12.

Accession Number: 20120531-5231.

Comments Due: 5 p.m. ET 6/21/12.

Docket Numbers: ER12-1891-000.

Applicants: Entergy Louisiana, LLC.

Description: ELL MSS-3 section 30.12 change to be effective 5/7/2012.

Filed Date: 5/31/12.

Accession Number: 20120531-5232.

Comments Due: 5 p.m. ET 6/21/12.

Docket Numbers: ER12-1892-000.

Applicants: Entergy Mississippi, Inc.

Description: EMI MSS-3 section 30.12 change to be effective 5/7/2012.

Filed Date: 5/31/12.

Accession Number: 20120531-5233.

Comments Due: 5 p.m. ET 6/21/12.

Docket Numbers: ER12-1893-000.

Applicants: Entergy New Orleans, Inc.

Description: ENOI MSS-3 section 30.12 change to be effective 5/7/2012.

Filed Date: 5/31/12.

Accession Number: 20120531-5234.

Comments Due: 5 p.m. ET 6/21/12.

Docket Numbers: ER12-1894-000.

Applicants: Entergy Texas, Inc.

Description: ETI MSS-3 section 30.12 change to be effective 5/7/2012.

Filed Date: 5/31/12.

Accession Number: 20120531-5235.

Comments Due: 5 p.m. ET 6/21/12.

Docket Numbers: ER12-1895-000.

Applicants: Entergy Services, Inc.

Description: Entergy Operating Companies' 2012 Annual OATT Rate Update filed by Entergy Services, Inc.

Filed Date: 5/31/12.

Accession Number: 20120531-5252.

Comments Due: 5 p.m. ET 6/21/12.

Docket Numbers: ER12-1897-000.

Applicants: California Independent System Operator Corporation.

Description: 2012-05-31 CAISO's Amendment 5 to ICAOA with Nevada Power Comp. to be effective 6/18/2012.

Filed Date: 5/31/12.

Accession Number: 20120531-5297.

Comments Due: 5 p.m. ET 6/21/12.

Docket Numbers: ER12-1898-000.

Applicants: PacifiCorp.

Description: WAPA Purchase of Capacity in Casper-Dave Johnston Line Cancellation to be effective 6/1/2012.

Filed Date: 5/31/12.

Accession Number: 20120531-5313.

Comments Due: 5 p.m. ET 6/21/12.

Docket Numbers: ER12-1899-000.

Applicants: PacifiCorp.

Description: WAPA RS 45, RS 684 to be effective 6/1/2012.

Filed Date: 5/31/12.

Accession Number: 20120531-5321.

Comments Due: 5 p.m. ET 6/21/12.

Docket Numbers: ER12-1900-000.

Applicants: PacifiCorp.

Description: PAC Energy Carbon Engineering & Procurement Agreement to be effective 6/1/2012.

Filed Date: 5/31/12.

Accession Number: 20120531-5323.

Comments Due: 5 p.m. ET 6/21/12.

Docket Numbers: ER12-1901-000.

Applicants: Genon Power Midwest, LP.

Description: Reliability Must-Run Rate Schedule to be effective 6/1/2012.

Filed Date: 5/31/12.

Accession Number: 20120531-5324.

Comments Due: 5 p.m. ET 6/21/12.

Docket Numbers: ER12-1902-000.

Applicants: Nevada Power Company.

Description: Rate Schedule No. 123 Amended & Restated Merchant Sub OM Agmt to be effective 6/1/2012.

Filed Date: 5/31/12.

Accession Number: 20120531-5344.

Comments Due: 5 p.m. ET 6/21/12.

Docket Numbers: ER12-1903-000.

Applicants: Pacific Gas and Electric Company.

Description: Western WDT May 2012 Biannual Filing to be effective 8/1/2012.

Filed Date: 6/1/12.

Accession Number: 20120601-5003.

Comments Due: 5 p.m. ET 6/22/12.

Docket Numbers: ER12-1904-000.

Applicants: Pacific Gas and Electric Company.

Description: Western IA May 2012 Biannual Filing to be effective 8/1/2012.

Filed Date: 6/1/12.

Accession Number: 20120601-5005.

Comments Due: 5 p.m. ET 6/22/12.

Docket Numbers: ER12-1905-000.

Applicants: Southern California Edison Company.

Description: GIA and Distribution Service Agreement Palm Springs Sunrise Plaza Cogeneration to be effective 6/1/2012.

Filed Date: 6/1/12.

Accession Number: 20120601-5030.

Comments Due: 5 p.m. ET 6/22/12.

Docket Numbers: ER12-1906-000.

Applicants: Southern California Edison Company.

Description: GIA and Distribution Service Agmt CalWind Resources, Wind Resources I Project to be effective 6/1/2012.

Filed Date: 6/1/12.

Accession Number: 20120601-5034.

Comments Due: 5 p.m. ET 6/22/12.

Docket Numbers: ER12-1907-000.

Applicants: Southern California Edison Company.

Description: GIA and Distribution Service Agreement Irvine Ranch Water District to be effective 6/1/2012.

Filed Date: 6/1/12.

Accession Number: 20120601-5035.

Comments Due: 5 p.m. ET 6/22/12.

Docket Numbers: ER12-1908-000.

Applicants: New England Power Pool Participants Committee.

Description: Jun 2012 Membership Filing to be effective 5/1/2012.

Filed Date: 6/1/12.

Accession Number: 20120601-5045.

Comments Due: 5 p.m. ET 6/22/12.

Docket Numbers: ER12-1909-000.

Applicants: National Grid Generation LLC.

Description: National Grid Generation LLC Pension and Other Post Employment Benefits Costs for the Year Ending December 31, 2011.

Filed Date: 5/31/12.

Accession Number: 20120531-5397.

Comments Due: 5 p.m. ET 6/21/12.

Docket Numbers: ER12-1910-000.

Applicants: Southern California Edison Company.

Description: Southern California Edison Company submits tariff filing per 35.13(a)(2)(iii: GIA and Distribution Service Agreement with Searles Valley Minerals Inc. to be effective 6/1/2012.

Filed Date: 6/1/12.

Accession Number: 20120601-5202.

Comments Due: 5 p.m. ET 6/22/12.

Docket Numbers: ER12-1911-000.

Applicants: RE McKenzie 1 LLC.

Description: RE McKenzie 1 LLC submits tariff filing per 35.12: Application for Market-Based Rate Authority to be effective 7/31/2012.

Filed Date: 6/1/12.

Accession Number: 20120601-5203.

Comments Due: 5 p.m. ET 6/22/12.

Docket Numbers: ER12-1912-000.

Applicants: RE McKenzie 2 LLC.

Description: RE McKenzie 2 LLC submits tariff filing per 35.12: Application for Market-Based Rate Authority to be effective 7/31/2012.

Filed Date: 6/1/12.

Accession Number: 20120601-5205.

Comments Due: 5 p.m. ET 6/22/12.

Docket Numbers: ER12-1913-000.

Applicants: RE McKenzie 3 LLC.

Description: RE McKenzie 3 LLC submits tariff filing per 35.12: Application for Market-Based Rate Authority to be effective 7/31/2012.

Filed Date: 6/1/12.

Accession Number: 20120601-5207.

Comments Due: 5 p.m. ET 6/22/12.

Docket Numbers: ER12-1914-000.

Applicants: ISO New England Inc., New England Power Company.

Description: ISO New England Inc. submits tariff filing per 35.13(a)(2)(iii: Rev to Att K and MR1 Reg How Res Needed for Rel Treat in RSP to be effective 8/1/2012.

Filed Date: 6/1/12.

Accession Number: 20120601-5209.

Comments Due: 5 p.m. ET 6/22/12.

Docket Numbers: ER12-1915-000.

Applicants: RE McKenzie 4 LLC.

Description: RE McKenzie 4 LLC submits tariff filing per 35.12: Application for Market-Based Rate Authority to be effective 7/31/2012.

Filed Date: 6/1/12.

Accession Number: 20120601-5211.

Comments Due: 5 p.m. ET 6/22/12.

Docket Numbers: ER12-1916-000.

Applicants: RE McKenzie 5 LLC.

Description: RE McKenzie 5 LLC submits tariff filing per 35.12: Application for Market-Based Rate Authority to be effective 7/31/2012.

Filed Date: 6/1/12.

Accession Number: 20120601-5213.

Comments Due: 5 p.m. ET 6/22/12.

Docket Numbers: ER12-1917-000.

Applicants: RE McKenzie 6 LLC.

Description: RE McKenzie 6 LLC submits tariff filing per 35.12: Application for Market-Based Rate Authority to be effective 7/31/2012.

Filed Date: 6/1/12.

Accession Number: 20120601-5215.

Comments Due: 5 p.m. ET 6/22/12.

Docket Numbers: ER12-1918-000.

Applicants: Public Service Electric and Gas Company, PJM Interconnection, L.L.C., American Transmission Systems, Incorporation.

Description: Public Service Electric and Gas Company submits tariff filing per 35.13(a)(2)(iii: TOA-AC revisions to the PJM Tariff Schedule 1A to include ATSI & Duke rates to be effective 8/1/2012.

Filed Date: 6/1/12.

Accession Number: 20120601-5217.

Comments Due: 5 p.m. ET 6/22/12.

Take notice that the Commission received the following electric securities filings:

Docket Numbers: ES12-44-000.

Applicants: Indianapolis Power & Light Company.

Description: Application of Indianapolis Power & Light Company under FPA Section 204 for an Order Authorizing the Issuance of Short-Term Debt Instruments.

Filed Date: 5/31/12.

Accession Number: 20120531-5387.

Comments Due: 5 p.m. ET 6/21/12.

Take notice that the Commission received the following public utility holding company filings:

Docket Numbers: PH12-14-000.

Applicants: Sempra Energy.

Description: Sempra Energy FERC-65B Waiver Notice of Change in Facts.

Filed Date: 5/31/12.

Accession Number: 20120531-5264.

Comments Due: 5 p.m. ET 6/21/12.

Docket Numbers: PH12-15-000.

Applicants: Enbridge Inc.

Description: Notice of Material Change in Facts of Enbridge Inc.

Filed Date: 5/31/12.

Accession Number: 20120531-5399.

Comments Due: 5 p.m. ET 6/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2012.
Nathaniel J. Davis, Sr.,
Deputy Secretary.

[FR Doc. 2012-14024 Filed 6-8-12; 8:45 am]

BILLING CODE 6717-01-P